DEPARTMENT OF JUSTICE

Drug Enforcement Administration

Manufacturer of Controlled Substances; Notice of Application

Pursuant to 21 CFR 1301.33(a), this is notice that on July 7, 2004, Cambridge Isotope Laboratory, 50 Frontage Road, Andover, Massachusetts 01810, made application by renewal to the Drug Enforcement Administration (DEA) for registration as a bulk manufacturer of the basic classes of controlled substances listed:

Drug | Schedule
Methaqualone (2565) | I
Dimethyltryptamine (7435) | I
Amphetamine (1100) | II
Methamphetamine (1105) | II
Pentobarbital (2270) | II
Secobarbital (2315) | II
Phencyclidine (7471) | II
Cocaine (9041) | II
Codeine (9050) | II
Oxycodone (9143) | II
Hydromorphone (9150) | II
Benzzoylecgonine (9180) | II
Methadone (9250) | II
Dextropropoxyphene (9273) | II
Morphine (9300) | II
Fentanyl (9801) | II

The company plans to manufacture small quantities of the listed controlled substances to produce isotope labeled standards for drug analysis.

Any other such applicant and any person who is presently registered with DEA to manufacture such a substance may file comments or objections to the issuance of the proposed registration pursuant to 21 CFR 1301.33(a).

Any such comments or objections may be addressed, in quintuplicate, to the Deputy Assistant Administrator, Office of Diversion Control, Drug Enforcement Administration, United States Department of Justice, Washington, DC 20537, Attention: DEA Federal Register Representative (CCD) and must be filed no later than November 29, 2004.

Dated: September 16, 2004.
William J. Walker,
Deputy Assistant Administrator, Office of Diversion Control, Drug Enforcement Administration.

[FR Doc. 04-21947 Filed 9-29-04; 8:45 am]

BILLING CODE 4410-09-M